DEPARTMENT OF TRANSPORTATION

Federal Aviation Administration

14 CFR Part 97

[Docket No. 30558 Amdt. No. 3225]

Standard Instrument Approach Procedures, Weather Takeoff Minimums; Miscellaneous Amendments

AGENCY: Federal Aviation Administration (FAA), DOT.

ACTION: Final rule.

SUMMARY: This amendment establishes, amends, suspends, or revokes Standard Instrument Approach Procedures (SIAPs) and/or Weather Takeoff Minimums for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective July 16, 2007. The compliance date for each SIAP and/or Weather Takeoff Minimums is specified in the amendatory provisions.

The incorporation by reference of certain publications listed in the regulations is approved by the Director of the Federal Register as of July 16, 2007.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

For Purchase—Individual SIAP and Weather Takeoff Minimums copies may be obtained from:

1. FAA Public Inquiry Center (APA-200), FAA Headquarters Building, 800 Independence Avenue, SW., Washington, DC 20591; or

2. The FAA Regional Office of the region in which the affected airport is located.

By Subscription—Copies of all SIAPs and Weather Takeoff Minimums mailed once every 2 weeks, are for sale by the Superintendent of Documents, U.S. Government Printing Office, Washington, DC 20402.

FOR FURTHER INFORMATION CONTACT: Donald P. Pate, Flight Procedure Standards Branch (AFS-420), Flight Technologies and Programs Division, Flight Standards Service, Federal Aviation Administration, Mike Monroney Aeronautical Center, 6500 South MacArthur Blvd. Oklahoma City, OK 73169 (Mail Address: P.O. Box 25082 Oklahoma City, OK. 73125) telephone: (405) 954-4164.

SUPPLEMENTARY INFORMATION: This amendment to Title 14 of the Code of Federal Regulations, Part 97 (14 CFR part 97), establishes, amends, suspends, or revokes SIAPs and/or Weather Takeoff Minimums. The complete regulatory description of each SIAP and/or Weather Takeoff Minimums is contained in official FAA form documents which are incorporated by reference in this amendment under 5 U.S.C. 552(a), 1 CFR part 51, and 14 CFR part 97.20. The applicable FAA Forms are identified as FAA Forms 8260-3, 8260-4, 8260-5 and 8260-15A. Materials incorporated by reference are available for examination or purchase as stated above.

The large number of SIAPs and/or Weather Takeoff Minimums, their complex nature, and the need for a special format make their verbatim publication in the Federal Register expensive and impractical. Further, airmen do not use the regulatory text of the SIAPs and/or Weather Takeoff Minimums but refer to their depiction on charts printed by publishers of aeronautical materials. Thus, the advantages of incorporation by reference are realized and publication of the complete description of each SIAP and/or Weather Takeoff Minimums contained in FAA form documents is unnecessary. The provisions of this amendment state the affected CFR sections, with the types and effective dates of the SIAPs and/or Weather Takeoff Minimums. This amendment also identifies the airport, its location, the procedure identification and the amendment number.

The Rule

This amendment to 14 CFR part 97 is effective upon publication of each separate SIAP and/or Weather Takeoff Minimums as contained in the transmittal. Some SIAP and/or Weather Takeoff Minimums amendments may have been previously issued by the FAA in a Flight Data Center (FDC) Notice to Airmen (NOTAM) as an emergency action of immediate flight safety relating directly to published aeronautical charts. The circumstances which created the need for some SIAP, and/or Weather Takeoff Minimums amendments may require making them effective in less than 30 days. For the remaining SIAPs and/or Weather Takeoff Minimums, an effective date at least 30 days after publication is provided.

Further, the SIAPs and/or Weather Takeoff Minimums contained in this amendment are based on the criteria contained in the U.S. Standard for Terminal Instrument Procedures (TERPS). In developing these SIAPs and/or Weather Takeoff Minimums, the TERPS criteria were applied to the conditions existing or anticipated at the affected airports. Because of the close and immediate relationship between these SIAPs and/or Weather Takeoff Minimums and safety in air commerce, I find that notice and public procedure before adopting these SIAPs and/or Weather Takeoff Minimums are impracticable and contrary to the public interest and, where applicable, that good cause exists for making some SIAPs and/or Weather Takeoff Minimums effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on June 29, 2007.
James J. Ballough,
Director, Flight Standards Service.

Adoption of the Amendment

Accordingly, pursuant to the authority delegated to me, under Title 14, Code of Federal Regulations, Part 97 (14 CFR part 97) is amended by establishing, amending, suspending, or revoking Standard Instrument Approach Procedures and Weather Takeoff Minimums effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 30 Aug 2007

Little Rock, AR, Adams Field, LOC RWY 22L, Orig

Little Rock, AR, Adams Field, ILS RWY 22L, Amdt 3A, CANCELLED

Glendale, AZ, Glendale Muni, RNAV (GPS) RWY 19, Amdt 1

Glendale, AZ, Glendale Muni, Takeoff Minimums and Obstacle DP, Amdt 2

Tucson, AZ, Tucson Intl, ILS OR LOC RWY 11L, Amdt 14

Tucson, AZ, Tucson Intl, LOC/DME BC RWY 29R, Amdt 8

Bishop, CA, Eastern Sierra Rgnl, RNAV (RNP) RWY 30, Orig

Hanford, CA, Hanford Muni, RNAV (GPS) RWY 32, Orig-A

San Francisco, CA, San Francisco Intl, RNAV (RNP) Y RWY 10R, Orig

Madison, CT, Griswold, VOR OR GPS-A, Amdt 8, CANCELLED

Washington, DC, Washington Dulles Intl, RNAV (RNP) Z RWY 1L, Orig

Washington, DC, Washington Dulles Intl, RNAV (RNP) Z RWY 1R, Orig

Washington, DC, Washington Dulles Intl, RNAV (RNP) Z RWY 19L, Orig

Washington, DC, Washington Dulles Intl, RNAV (RNP) Z RWY 19R, Orig

Washington, DC, Washington Dulles Intl, RNAV (GPS) Y RWY 19L, Amdt 1

Washington, DC, Washington Dulles Intl, RNAV (GPS) Y RWY 19R, Amdt 2

Gainesville, FL, Gainesville Rgnl, RNAV (GPS) RWY 7, Amdt 1

Gainesville, FL, Gainesville Rgnl, RNAV (GPS) RWY 25, Amdt 1

Miami, FL, Miami Intl, ILS OR LOC RWY 8R, Amdt 30

Miami, FL, Miami Intl, ILS OR LOC RWY 9, Amdt 10

Miami, FL, Miami Intl, ILS OR LOC RWY 12, Amdt 5

Miami, FL, Miami Intl, ILS OR LOC RWY 26L, Amdt 15

Miami, FL, Miami Intl, ILS OR LOC RWY 27, Amdt 24

Miami, FL, Miami Intl, ILS OR LOC RWY 30, Amdt 1

Miami, FL, Miami Intl, RNAV (GPS) Z RWY 8R, Amdt 1

Miami, FL, Miami Intl, RNAV (GPS) Z RWY 9, Amdt 1

Miami, FL, Miami Intl, RNAV (GPS) Z RWY 12, Amdt 1

Miami, FL, Miami Intl, RNAV (GPS) Z RWY 26L, Amdt 1

Miami, FL, Miami Intl, RNAV (GPS) Z RWY 27, Amdt 1

Miami, FL, Miami Intl, RNAV (GPS) Z RWY 30, Amdt 1

Miami, FL, Miami Intl, RNAV (RNP) Y RWY 8R, Orig

Miami, FL, Miami Intl, RNAV (RNP) Y RWY 9, Orig

Miami, FL, Miami Intl, RNAV (RNP) Y RWY 12, Orig

Miami, FL, Miami Intl, RNAV (RNP) Y RWY 26L, Orig

Miami, FL, Miami Intl, RNAV (RNP) Y RWY 27, Orig

Miami, FL, Miami Intl, RNAV (RNP) Y RWY 30, Orig

Sarasota (Bradenton), FL, Sarasota/Bradenton Intl, RNAV (GPS) RWY 14, Amdt 1

Sarasota (Bradenton), FL, Sarasota/Bradenton Intl, RNAV (GPS) RWY 32, Amdt 1

Albany, GA, Southwest Georgia Regional, VOR OR TACAN RWY 16, Amdt 26

Albany, GA, Southwest Georgia Regional, VOR/DME RNAV OR GPS RWY 34, Amdt 4, CANCELLED

Gainesville, GA, Lee Gilmer Memorial, RNAV (GPS) RWY 4, Orig

Gainesville, GA, Lee Gilmer Memorial, RNAV (GPS) RWY 22, Orig

Gainesville, GA, Lee Gilmer Memorial, NDB RWY 4, Amdt 5

Gainesville, GA, Lee Gilmer Memorial, Takeoff Minimums and Obstacle DP, Amdt 1

Jefferson, GA, Jackson County, RNAV (GPS) RWY 16, Orig

Jefferson, GA, Jackson County, RNAV (GPS) RWY 34, Orig

Jefferson, GA, Jackson County, GPS RWY 16, Orig, CANCELLED

Jefferson, GA, Jackson County, GPS RWY 34, Orig, CANCELLED

Perry, GA, Perry-Houston County, RNAV (GPS) RWY 18, Orig

Perry, GA, Perry-Houston County, RNAV (GPS) RWY 36, Orig

Hyannis, MA, Barnstable Muni-Boardman/Polando Field, VOR RWY 6, Amdt 9

Baltimore, MD, Baltimore/Washington Intl Thurgood Marshal, RNAV (RNP) Z RWY 33L, Orig

Baltimore, MD, Martin State, ILS OR LOC RWY 33, Amdt 7

Easton, MD, Easton/Newnam Field, RNAV (GPS) RWY 4, Orig

Easton, MD, Easton/Newnam Field, ILS OR LOC/DME RWY 4, Amdt 1

Easton, MD, Easton/Newnam Field, Takeoff Minimums and Obstacle DP, Orig

Bar Harbor, ME, Hancock County-Bar Harbor, RNAV (GPS) RWY 22, Orig

Bar Harbor, ME, Hancock County-Bar Harbor, ILS OR LOC RWY 22, Amdt 5

Bad Axe, MI, Huron County Memorial, RNAV (GPS) RWY 17, Orig

Bad Axe, MI, Huron County Memorial, RNAV (GPS) RWY 35, Orig

Bad Axe, MI, Huron County Memorial, VOR RWY 35, Amdt 1

Detroit Lakes, MN, Detroit Lakes-Wething Field, RNAV (GPS) RWY 13, Amdt 1

Detroit Lakes, MN, Detroit Lakes-Wething Field, RNAV (GPS) RWY 31, Amdt 1

Minneapolis, MN, Minneapolis-St. Paul Intl/Wold Chamb, ILS RWY 4, Amdt 27, CANCELLED

Minneapolis, MN, Minneapolis-St. Paul Intl/Wold Chamb, LOC RWY 4, Orig

Minneapolis, MN, Minneapolis-St. Paul Intl/Wold Chambe, CONVERGING ILS RWY 35, Amdt 1

Minneapolis, MN, Minneapolis-St. Paul Intl/Wold Chamb, ILS OR LOC RWY 35, Amdt 1, ILS RWY 35 (CAT II), ILS RWY 35 (CATIII)

Minneapolis, MN, Minneapolis-St. Paul Intl/Wold Chamb, RNAV (GPS) Z RWY 35, Amdt 1

Minneapolis, MN, Minneapolis-St. Paul Intl/Wold Chamb, RNAV (RNP) Y RWY 35, Orig

Poplar Bluff, MO, Poplar Bluff Muni, RNAV (GPS) RWY 18, Orig

Poplar Bluff, MO, Poplar Bluff Muni, RNAV (GPS) RWY 36, Orig

Poplar Bluff, MO, Poplar Bluff Muni, GPS RWY 18, Orig-B, CANCELLED

Poplar Bluff, MO, Poplar Bluff Muni, GPS RWY 36, Orig-A, CANCELLED

Poplar Bluff, MO, Poplar Bluff Muni, Takeoff Minimums and Obstacle DP, Amdt 1

Potosi, MO, Washington County Airport, RNAV (GPS) RWY 2, Orig-A

Potosi, MO, Washington County Airport, RNAV (GPS) RWY 20, Orig-A

St Louis, MO, Lambert-St Louis Intl, LDA/DME RWY 12L, Amdt 5

Pascagoula, MS, Trent Lott Intl, Takeoff Minimums and Obstacle DP, Orig

Grand Forks, ND, Grand Forks Intl, RNAV (GPS) RWY 8, Orig

Grand Forks, ND, Grand Forks Intl, RNAV (GPS) RWY 26, Amdt 1

Reno, NV, Reno/Stead, GPS-B, Orig, CANCELLED

Buffalo, NY, Buffalo Niagara Intl, NDB RWY 5, Amdt 11, CANCELLED

Buffalo, NY, Buffalo Niagara Intl, Takeoff Minimums and Obstacle DP, Amdt 5

Austin, TX, Austin-Bergstrom Intl, ILS OR LOC RWY 17R, Amdt 3

Austin, TX, Austin-Bergstrom Intl, ILS OR LOC RWY 35L, Amdt 4

Charlottesville, VA, Charlottesville-Albemarle, RNAV (GPS) RWY 3, Amdt 2

Newport News, VA, Newport News/Williamsburg Intl, VA, LOC/DME RWY 20, Orig

Newport News, VA, Newport News/Williamsburg Intl, Takeoff Minimums and Obstacle DP, Orig

Richmond/Ashland, VA, Hanover County Muni, RNAV (GPS) RWY 16, Orig

Richmond/Ashland, VA, Hanover County Muni, GPS RWY 16, Amdt 1B, CANCELLED

Richmond, VA, Richmond Intl, ILS OR LOC RWY 34, Amdt 13C, ILS RWY 34 (CAT II), ILS RWY 34 (CATIII)

Hoquiam, WA, Bowerman, ILS OR LOC/DME RWY 24, Amdt 2

Hoquiam, WA, Bowerman, RNAV (GPS) RWY 6, Orig

Hoquiam, WA, Bowerman, RNAV (GPS) RWY 24, Orig

Hoquiam, WA, Bowerman, VOR/DME RWY 24, Amdt 6

Hoquiam, WA, Bowerman, VOR RWY 6, Amdt 15

Baraboo, WI, Baraboo Wisconsin Dells, RNAV (GPS) RWY 1, Orig

Baraboo, WI, Baraboo Wisconsin Dells, RNAV (GPS) RWY 19, Orig

Baraboo, WI, Baraboo Wisconsin Dells, GPS RWY 1, Orig, CANCELLED

Menomonie, WI, Menomonie Municipal-Score Field, VOR/DME RWY 27, Amdt 1

Menomonie, WI, Menomonie Municipal-Score Field, GPS RWY 27, Orig, CANCELLED

Cheyenne, WY, Cheyenne Regional/Jerry Olson Field, ILS OR LOC RWY 27, Amdt 34A

Cheyenne, WY, Cheyenne Regional/Jerry Olson Field, RNAV (GPS) RWY 9, Orig-A

Cheyenne, WY, Cheyenne Regional/Jerry Olson Field, RNAV (GPS) RWY 13, Orig-A

Cheyenne, WY, Cheyenne Regional/Jerry Olson Field, RNAV (GPS) RWY 27, Orig-B

Cheyenne, WY, Cheyenne Regional/Jerry Olson Field, RNAV (GPS) RWY 31, Orig-A

[FR Doc. E7-13224 Filed 7-13-07; 8:45 am]

BILLING CODE 4910-13-P